DEPARTMENT OF HOMELAND SECURITY

Coast Guard

[Docket No. USCG-2009-0671]

Chemical Transportation Advisory Committee; Vacancies

AGENCY: Coast Guard, DHS.

ACTION: Request for applications.

SUMMARY: The Coast Guard is seeking applications for appointment to membership on the Chemical Transportation Advisory Committee (CTAC). CTAC advises, consults with, and makes recommendations to the Coast Guard on matters relating to the safe and secure transportation and handling of hazardous materials in bulk on U.S.-flag vessels in U.S. ports and waterways.

DATES: Applications should reach the Coast Guard on or before September 30, 2009.

ADDRESSES: You may request an application form by writing to Commandant (CG-5223), Attn Chief Hazardous Materials Standards Division, U.S. Coast Guard, 2100 2ND ST SW., STOP 7126, Washington, DC 20593-7126; by calling (202) 372-1420/1422; or by faxing (202) 372-1926. Submit completed application forms to the same address. This notice and the application form are available on the Internet at http://www.regulations.gov by clicking in “Advanced Docket Search”, entering “USCG-2009-0671” in the Docket ID box, and clicking on “submit”. The application form is also available at http://homeport.uscg.mil/ctac as a supporting document for “How to become a CTAC member” under “Members”.

FOR FURTHER INFORMATION CONTACT: Commander Michael Roldan, Designated Federal Officer (DFO) of CTAC, or Ms. Sara S. Ju, Assistant to the DFO, telephone (202) 372-1420/1422, fax (202) 372-1926.

SUPPLEMENTARY INFORMATION: The Chemical Transportation Advisory Committee (CTAC) is an advisory committee constituted under the Federal Advisory Committee Act, 5 U.S.C. App. 2 (Pub. L. 92-463). It advises, consults with, and makes recommendations to the Commandant through the Assistant Commandant for Marine Safety, Security and Stewardship on matters relating to the safe and secure transportation and handling of hazardous materials in bulk on U.S.-flag vessels in U.S. ports and waterways. The advice and recommendations of CTAC also assist the U.S. Coast Guard in formulating the position of the United States on hazardous material transportation issues prior to meetings of the International Maritime Organization.

CTAC meets at least once a year, usually twice a year, at Coast Guard Headquarters in Washington, DC, or in another location. CTAC's subcommittees and working groups may meet to perform specific assignments as required.

The Coast Guard will consider applications for eight positions that expire on December 31, 2009. To be eligible, applicants should have experience associated with, and represent the viewpoints of, the following areas associated with marine transportation of hazardous materials in bulk: chemical manufacturing companies, companies that handle or transport chemicals in the marine environment, vessel design and construction companies, marine safety or security companies and marine environmental protection groups. Each member serves for a term of 3 years. Some members may serve consecutive terms. All members serve at their own expense, and receive no salary, reimbursement of travel expenses, or other compensation from the Federal Government.

In support of the policy of the Department of Homeland Security on gender and ethnic diversity, the Coast Guard encourages applications from qualified women and members of minority groups.

Dated: July 20, 2009.
J. Lantz,
Director of Commercial Regulations and Standards.

[FR Doc. E9-17750 Filed 7-23-09; 8:45 am]

BILLING CODE 4910-15-P